DEPARTMENT OF EDUCATION

[Docket No.: ED-2024-SCC-0052]

Agency Information Collection Activities; Submission to the Office of Management and Budget for Review and Approval; Comment Request; International Resource Information System (IRIS)

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before July 8, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Sara Starke, 202-987-0391.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: International Resource Information System (IRIS).

OMB Control Number: 1840-0759.

Type of Review: An extension without change of a currently approved ICR.

Respondents/Affected Public: Private Sector; Individuals and Households.

Total Estimated Number of Annual Responses: 6,596.

Total Estimated Number of Annual Burden Hours: 35,712.

Abstract: Information Resource Information System (IRIS) is an online performance reporting system for grantees of International and Foreign Language Education (IFLE) programs. The site also allows for IFLE program officers to process overseas language requests, travel authorization requests, and grant activation requests. IRIS keeps a record of these requests and also of Foreign Language and Area Studies (FLAS) Fellowship recipients and grantee performance reports.

This is a request for an extension of IRIS, which will permit the continued collection of project and program performance data for IFLE programs: (1) American Overseas Research Centers (AORC), (2) Business and International Education (BIE), (3) Centers for International Business Education (CIBE), (4) Foreign Language and Area Studies (FLAS) Fellowships, (5) Institute for International Public Policy (IIPP), (6) International Research and Studies (IRS), (7) Language Resource Centers (LRC), (8) National Resource Centers (NRC), (9) Technological Innovation and Cooperation for Foreign Information Access (TICFIA), (10) Undergraduate International Studies and Foreign Language (UISFL), (11) Fulbright-Hays Doctoral Dissertation Research Abroad Program (DDRA), (12) Fulbright-Hays Faculty Research Abroad (FRA), (13) Fulbright-Hays Group Projects Abroad (GPA), and (14) Fulbright-Hays Seminars Abroad (SA).

Dated: June 4, 2024.
Kun Mullan,
PRA Coordinator, Strategic Collections and Clearance Governance and Strategy Division, Office of Chief Data Officer, Office of Planning, Evaluation and Policy Development.

[FR Doc. 2024-12483 Filed 6-6-24; 8:45 am]

BILLING CODE 4000-01-P